DEPARTMENT OF LABOR

Employment and Training Administration

[TA-W-64,363]

Chrysler LLC, Kokomo, IN; Notice of Termination of Investigation

Pursuant to Section 221 of the Trade Act of 1974, as amended, an investigation was initiated on November 6, 2008 in response to a petition filed on behalf of workers of Chrysler LLC, Kokomo, Indiana.

The Department determined that the petition is invalid. Three workers filed on behalf of workers at more than one subdivision of the firm. The petitioning workers are nonetheless covered by a certification. A petition encompassing the intended locations was filed with the Department by the International Union, United Automobile, Aerospace, and Agricultural Implement Workers of America, Local 685, in which a certification of eligibility to apply for adjustment assistance was granted on December 15, 2008 (TA-W-64,494, TA-W-64,494A and TA-W-64,494B).

Accordingly, this petition investigation is terminated.

Signed at Washington, DC, this 16th day of December, 2008.
Linda G. Poole,
Certifying Officer, Division of Trade Adjustment Assistance.

[FR Doc. E8-30919 Filed 12-29-08; 8:45 am]

BILLING CODE 4510-FN-P